DEPARTMENT OF COMMERCE

International Trade Administration

[A-570-827]

Certain Cased Pencils From the People's Republic of China: Final Results of Antidumping Duty Administrative Review and Determination To Revoke Order In Part; 2010-2011

AGENCY: Import Administration, International Trade Administration, Department of Commerce.

SUMMARY: On January 11, 2013, the Department of Commerce (the Department) published the preliminary results of the antidumping duty administrative review of certain cased pencils (pencils) from the People's Republic of China (PRC). The period of review (POR) is December 1, 2010, through November 30, 2011. The review covers one exporter of subject merchandise, Beijing Fila Dixon Stationery Company, Ltd. a/k/a Beijing Dixon Ticonderoga Stationery Company, Ltd., a/k/a Beijing Dixon Stationery Company, Ltd., and Dixon Ticonderoga Company (collectively, Dixon). For the final results, we find that Dixon did not make sales of the subject merchandise at less than normal value. Furthermore, the Department is revoking the antidumping duty order in part with respect to Dixon.

DATES: Effective Date: July 18, 2013.

FOR FURTHER INFORMATION CONTACT: Mary Kolberg or Sergio Balbontin, AD/CVD Operations, Office 1, Import Administration, International Trade Administration, U.S. Department of Commerce, 14th Street and Constitution Avenue NW., Washington, DC 20230; telephone (202) 482-1785 or (202) 482-6478, respectively.

SUPPLEMENTARY INFORMATION:

Background

On January 11, 2013, the Department published the preliminary results of the administrative review of the antidumping duty order on pencils from the PRC.¹ On January 31, 2013, the Department received comments from Dixon concerning the Department's selection of the surrogate country and the surrogate values used in the Preliminary Results. The Department conducted verification of Dixon's sales and factors of production responses from April 8, 2013, through April 10, 2013, in Beijing, PRC. We received a case brief from Dixon on June 3, 2013, and held a hearing on June 20, 2013. We have conducted this administrative review in accordance with section 751 of the Tariff Act of 1930, as amended (the Act).

¹ See Certain Cased Pencils From the People's Republic of China: Preliminary Results of Antidumping Duty Administrative Review and Intent Not To Revoke Order In Part; 2010-2011, 78 FR 2363 (January 11, 2013) (Preliminary Results).

Scope of the Order

The merchandise covered by the order includes certain cased pencils from the PRC. Certain cased pencils subject to the order are currently classified under the Harmonized Tariff Schedule of the United States (HTSUS) subheading 9609.10.00. While the HTSUS subheading is provided for convenience and customs purposes, the written description of the scope of the order is dispositive. A full description of the scope of the order is contained in the issues and decision memorandum.²

² See Memorandum from Christian Marsh, Deputy Assistant Secretary for Antidumping and Countervailing Duty Operations to Paul Piquado, Assistant Secretary for Import Administration, entitled “Issues and Decision Memorandum for the Administrative Review of the Antidumping Duty Order on Certain Cased Pencils from the People's Republic of China” dated concurrently with this notice (Issues and Decision Memorandum).

The Issues and Decision Memorandum is a public document and is on file electronically via Import Administration's Antidumping and Countervailing Duty Centralized Electronic Service System (IA ACCESS). IA ACCESS is available to registered users at http://iaaccess.trade.gov and is available to all parties in the Central Records Unit, room 7046 of the main Department of Commerce building. In addition, a complete version of the Issues and Decision Memorandum can be accessed directly on the Internet at http://www.trade.gov/ia. The signed Issues and Decision Memorandum and the electronic versions of the Issues and Decision Memorandum are identical in content.

Analysis of Comments Received

All issues raised in Dixon's case brief are addressed in the Issues and Decision Memorandum. A list of the issues raised is attached to this notice as an Appendix.

Changes From the Preliminary Results

Based on further information and comments received from Dixon, we have made certain revisions to the margin calculations for Dixon. Specifically, for the reasons explained in the Issues and Decision Memorandum at Comment 1, regarding whether to use India or the Philippines instead of Thailand as the primary surrogate country, we have relied upon the Philippines as the primary surrogate country for valuing Dixon's factors of production for these final results.

Notice of Revocation of the Order, In Part

As explained in the Issues and Decision Memorandum, Dixon has met the criteria described in 19 CFR 351.222(b)(1) and (2) for revocation of the order, in part, and has submitted the certifications and agreement for reinstatement described in 19 CFR 351.222(e)(1).³ Therefore, we determine that the order with respect to subject merchandise exported by Dixon should be revoked.

³ In May 2012, the Department amended its regulations to eliminate the provision for revocation of an antidumping or countervailing duty order with respect to individual exporters or producers based on those individual exporters or producers having received antidumping rates of zero for three consecutive years. See Modification to Regulation Concerning the Revocation of Antidumping and Countervailing Duty Orders, 77 FR 29875 (May 21, 2012). The Department's amendment applies to all reviews initiated on or after June 20, 2012. The instant review was initiated in January 2012.

Final Results of the Review

As a result of this review, we determine that the following weighted-average dumping margin exists for Dixon for the period December 1, 2010, through November 30, 2011:

Exporter | Weighted-average dumping margin (percent)
Beijing Fila Dixon Stationery Company, Ltd. a/k/a Beijing Dixon Ticonderoga Stationery Company, Ltd., a/k/a Beijing Dixon Stationery Company, Ltd. | 0.00

Assessment Rates

In accordance with the Final Modification,⁴ the Department will instruct U.S. Customs and Border Protection (CBP) to liquidate entries for Dixon without regard to antidumping duties.

⁴ See Antidumping Proceedings: Calculation of the Weighted-Average Dumping Margin and Assessment Rate in Certain Antidumping Duty Proceedings; Final Modification, 77 FR 8101, 8102 (February 14, 2012) (Final Modification).

The Department recently announced a refinement to its assessment practice in non-market economy (NME) cases.⁵ Pursuant to this refinement in practice, for entries that were not reported in the U.S. sales databases submitted by companies individually examined during this review, the Department will instruct CBP to liquidate such entries at the NME-wide rate.

⁵ See Non-Market Economy Antidumping Proceedings: Assessment of Antidumping Duties, 76 FR 65694 (October 24, 2011).

We intend to issue instructions to CBP 15 days after publication of the final results of this review.

Cash Deposit Requirements

The following cash deposit requirements will be effective upon publication of the final results of this administrative review for shipments of the subject merchandise from the PRC entered, or withdrawn from warehouse, for consumption on or after the publication date, as provided by section 751(a)(2)(C) of the Act: (1) For Dixon, which is revoked from the order, no cash deposit will be required; (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Disclosure

We will disclose the calculations performed within five days of the date of publication of this notice to parties in this proceeding in accordance with 19 CFR 351.224(b).

Notification to Importers Regarding the Reimbursement of Duties

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties. See 19 CFR 351.402(f)(3).

Administrative Protective Order

This notice also serves as a reminder to parties subject to an administrative protective order (APO) of their responsibility concerning the return or destruction of proprietary information disclosed under APO in accordance with 19 CFR 351.305, which continues to govern business proprietary information in this segment of the proceeding. Timely written notification of the return or destruction of APO materials, or conversion to judicial protective order, is hereby requested. See 19 CFR 351.305(a)(3). Failure to comply with the regulations and the terms of an APO is a sanctionable violation. See 19 CFR part 354.

These final results of administrative review are issued and published in accordance with sections 751(a)(1) and 777(i)(1) of the Act.

Dated: July 10, 2013.
Paul Piquado,
Assistant Secretary for Import Administration.

Appendix

Comment 1: Whether to use India or the Philippines instead of Thailand as the primary surrogate country

Comment 2: Whether the antidumping duty order should be revoked as to Dixon

[FR Doc. 2013-17160 Filed 7-17-13; 8:45 am]

BILLING CODE 3510-DS-P